DEPARTMENT OF ENERGY

Privacy Act of 1974; System of Records

Correction

In notice document 2024-20554, appearing on pages 73640 through 73643 in the issue of Wednesday, September 11, 2024, make the following correction:

On page 73640, in the second column, in the DATES section, on the fourth line, “September 11, 2024” should read “October 11, 2024”.

[FR Doc. C1-2024-20554 Filed 9-27-24; 8:45 am]

BILLING CODE 0099-10-D